DEPARTMENT OF JUSTICE

Immigration and Naturalization Service

[INS No. 2027-99]

Notice of Meeting Concerning Federal Standards for Birth Certificates

AGENCY: Immigration and Naturalization Service, Justice.

ACTION: Notice of public meeting concerning Federal standards for birth certificates.

SUMMARY: The Illegal Immigration Reform and Immigrant Responsibility Act of 1996, requires that:

• Appropriate standards be developed for certified copies of birth certificates to be accepted for official purposes by Federal agencies;

• At a minimum, the certified copies of birth certificates be designed to limit tampering, counterfeiting, and photocopying, or otherwise being duplicated, for fraudulent purposes;

• Regulations be issued establishing such standards; and

• A lead Federal Agency be selected for issuing the regulations.

The Immigration and Naturalization Service (Service) has been designated as the lead agency for this project and has convened a Working Group comprised of other Federal agencies and a representative of state issuing offices. In order to develop new standards that would make certified copies of birth certificates more secure and tamper resistant, the Working Group would like to:

• Meet with interested parties, especially vendors of paper, ink, printing services, and related products, and

• Allow these interested parties to describe the products and/or services that would contribute to making certified copies of birth certificates more secure and tamper resistant.

DATES AND TIMES: The meeting will be held on March 8, 2000, from 9 a.m. until noon. The meeting may be extended until 1 p.m., if necessary, to accommodate the number of interested parties wishing to speak.

ADDRESSES: The meeting will be held at the Renaissance Washington Hotel, 999 9th Street NW, Washington, DC, in Congressional Hall B (2 blocks north of Metro stop Gallery Place).

FOR FURTHER INFORMATION CONTACT: Barbara Strack, Immigration and Naturalization Service, 425 I Street NW, Washington, DC 20536, telephone 202-514-3242.

SUPPLEMENTARY INFORMATION: What is the Legal Authority for Developing New Standards for Birth Certificates?

Section 656(a) of the Illegal Immigration Reform and Immigrant Responsibility Act of 1996, Public Law 104-208, dated September 30, 1996, requires the development of Federal standards for certified copies of birth certificates that will be accepted for official purposes by Federal agencies and the issuance of a regulation establishing such standards.

When Will the New Standards Apply?

The new standards will apply only to a certified copy of a birth certificate issued 3 years after the date a final rule is published in the Federal Register. The new standards will not apply to certified copies of birth certificates issued before that date.

What is the Purpose of This Meeting?

The Working Group wishes to obtain information about commercially available paper, ink, and printing services that would contribute to making certified copies of birth certificates more secure and tamper resistant. The purpose of the meeting is to allow people who are knowledgeable about the paper and printing industry to address the Working Group in order to aid in the Group's development of minimum Federal standards, in anticipation of a Federal regulation on this topic.

How do I Register to Attend?

The meeting is open to the public, but advance notice of attendance is requested to ensure adequate seating. Interested parties who wish to make presentations to the Working Group must register by no later than 5 p.m. on February 29, 2000, by:

• Calling Michelle Filippone of the Service at 202-514-3242, or

• Faxing a request to Michelle Filippone at 202-305-0134.

Please include your name, organizational affiliation, if any, address, telephone number, and fax number. You may list more than one person from the same organization in a single registration, if desired. However, only one person will be permitted to make a presentation on behalf of each interested party.

How Much Time Will be Allowed for Presentations?

The amount of time allowed for each presentation will depend upon the number of presentations. Those who have properly registered will be notified before the meeting of the amount of time allotted for each presentation.

May Written Materials be Provided to Supplement the Oral Presentation?

Yes. You may submit written materials to supplement your oral presentation. Please submit an original and two copies of any supplemental materials by no later than March 15, 2000, to Michelle Filippone, Immigration and Naturalization Service, 425 I Street, NW, room 7309, Washington, DC 20536. Interested parties are encouraged to submit samples of their previous work in security printing, if available.

Dated: February 9, 2000.
Doris Meissner,
Commissioner, Immigration and Naturalization Service.

[FR Doc. 00-3583 Filed 2-15-00; 8:45 am]

BILLING CODE 4410-10-M